DEPARTMENT OF COMMERCE

International Trade Administration

[A-201-828]

Revocation Pursuant to Five-year (“Sunset”) Review of Antidumping Duty Order: Certain Welded Large Diameter Line Pipe from Mexico

AGENCY: Import Administration, International Trade Administration, Department of Commerce.

SUMMARY: As a result of the determination by the International Trade Commission (“ITC”) that revocation of the antidumping duty order on certain welded large diameter line pipe (“welded large diameter pipe”) from Mexico would not be likely lead to continuation or recurrence of material injury to an industry in the United States within a reasonably foreseeable time, the Department of Commerce (“the Department”) is publishing this notice of revocation of this antidumping duty order pursuant to section 751(d)(2) of the Tariff Act of 1930, as amended (“the Act”). EFFECTIVE DATE: February 27, 2007

FOR INFORMATION CONTACT: Dena Crossland or Dana Mermelstein, AD/CVD Operations, Import Administration, International Trade Administration, U.S. Department of Commerce, 14th Street and Constitution Avenue, NW, Washington, DC, 20230; telephone: (202) 482-3362 or (202) 482-1391, respectively.

SUPPLEMENTARY INFORMATION:

Background

On November 1, 2006, the Department initiated and the ITC instituted sunset reviews of the antidumping duty orders on welded large diameter pipe from Japan and Mexico, pursuant to section 751(c) of the Act. See Initiation of Five-year (“Sunset”) Reviews, 71 FR 64242 (November 1, 2006). As a result of its sunset reviews, the Department found that revocation of the antidumping duty orders would be likely to lead to continuation or recurrence of dumping and notified the ITC of the magnitude of the margins likely to prevail were the orders to be revoked. See Certain Welded Large Diameter Line Pipe from Japan and Mexico; Notice of Final Results of Five-year (“Sunset”) Reviews of Antidumping Duty Orders, 72 FR 10498 (March 8, 2007).

On October 16, 2007, the ITC determined, pursuant to section 751(c) of the Act, that revocation of the antidumping duty order on welded large diameter pipe from Mexico would not be likely to lead to a continuation or recurrence of material injury to an industry in the United States within a reasonably foreseeable time. The ITC notified the Department on October 16, 2007, and published its decision on October 22, 2007. See Certain Welded Large Diameter Line Pipe from Japan and Mexico, 72 FR 59551 (October 22, 2007), and ITC Publication 3953 (October 2007), entitled Certain Welded Large Diameter Line Pipe from Japan and Mexico: Investigation Nos. 731-TA-919 and 920 (Review).

Scope of the Order

The product covered by this investigation is certain welded carbon and alloy line pipe, of circular cross section and with an outside diameter greater than 16 inches, but less than 64 inches, in diameter, whether or not stenciled. This product is normally produced according to American Petroleum Institute (API) specifications, including Grades A25, A, B, and X grades ranging from X42 to X80, but can also be produced to other specifications.

Specifically not included within the scope of this investigation is American Water Works Association (“AWWA”) specification water and sewage pipe, and the following size/grade combinations of line pipe:

- Having an outside diameter greater than or equal to 18 inches and less than or equal to 22 inches, with a wall thickness measuring 0.750 inch or greater, regardless of grade.

- Having an outside diameter greater than or equal to 24 inches and less than 30 inches, with wall thickness measuring greater than 0.875 inches in grades A, B, and X42, with wall thickness measuring greater than 0.750 inches in grades X52 through X56, and with wall thickness measuring greater than 0.688 inches in grades X60 or greater.

- Having an outside diameter greater than or equal to 30 inches and less than 36 inches, with wall thickness measuring greater than 1.250 inches in grades A, B, and X42, with wall thickness measuring greater than 1.000 inches in grades X52 through X56, and with wall thickness measuring greater than 0.875 inches in grades X60 or greater.

- Having an outside diameter greater than or equal to 36 inches and less than 42 inches, with wall thickness measuring greater than 1.375 inches in grades A, B, and X42, with wall thickness measuring greater than 1.250 inches in grades X52 through X56, and with wall thickness measuring greater than 1.125 inches in grades X60 or greater.

- Having an outside diameter greater than or equal to 42 inches and less than 64 inches, with a wall thickness measuring greater than 1.500 inches in grades A, B, and X42, with wall thickness measuring greater than 1.375 inches in grades X52 through X56, and with wall thickness measuring greater than 1.250 inches in grades X60 or greater.

- Having an outside diameter equal to 48 inches, with a wall thickness measuring 1.0 inch or greater, in grades X-80 or greater.

The product currently is classified under U.S. Harmonized Tariff Schedule (“HTSUS”) item numbers 7305.11.10.30, 7305.11.10.60, 7305.11.50.00, 7305.12.10.30, 7305.12.10.60, 7305.12.50.00, 7305.19.10.30, 7305.19.10.60, and 7305.19.50.00. Although the HTSUS item numbers are provided for convenience and customs purposes, the written description of the scope is dispositive.

Revocation of Antidumping Duty Order

As a result of the determination by the ITC that revocation of this antidumping duty order is not likely to lead to continuation or recurrence of material injury to an industry in the United States within a reasonably foreseeable time, the Department is revoking the antidumping duty order on welded large diameter pipe from Mexico, pursuant to sections 751(c) and 751(d) of the Act. Pursuant to section 751(d)(2) of the Act and 19 CFR 351.222(i)(2)(i), the effective date of revocation is February 27, 2007 (i.e., the fifth anniversary of the date of publication in the Federal Register of the notice of the antidumping duty order). The Department will notify U.S. Customs and Border Protection to discontinue suspension of liquidation and collection of cash deposits on entries of the subject merchandise entered or withdrawn from warehouse on or after February 27, 2007, the effective date of revocation of the antidumping duty order. The Department will complete any pending administrative reviews of this order and will conduct reviews of subject merchandise entered prior to the effective date of revocation in response to appropriately filed requests for review.

This notice also serves as the only reminder to parties subject to administrative protective order (“APO”) of their responsibility concerning the return/destruction or conversion to judicial protective order of proprietary information disclosed under APO in accordance with 19 CFR 351.305(a)(3). Failure to comply is a violation of the APO which may be subject to sanctions.

This revocation pursuant to five-year (sunset) review and notice are in accordance with sections 751(c) and 751(d)(2) of the Act and published pursuant to section 777(i)(1) of the Act.

Dated: October 29, 2007.
Stephen J. Claeys,
Acting Assistant Secretary for Import Administration.

[FR Doc. E7-21712 Filed 11-2-07; 8:45 am]

BILLING CODE 3510-DS-S